LEGAL SERVICES CORPORATION

Sunshine Act Meeting of the Board of Directors Operations & Regulations Committee

Time and Date: The Operations and Regulations Committee of the Legal Services Corporation Board of Directors will meet on August 23, 2002. The meeting will begin at 1 p.m. and continue until the Committee concludes its agenda.

Location: The Marriott at Metro Center, 775 12th Street, NW, Washington, DC.

Status of Meeting: Open.

Matters to be Considered: 1. Approval of agenda.

2. Approval of the minutes of the Committee's meeting of May 31, 2002.

3. A panel of three Executive Directors (Michelle DeBord, MidPenn Legal Services, Inc., Harrisburg, PA; Harold E. Creacy, Ocean-Monmouth Legal Services, Inc., Toms River, NJ; and Paul C. Julien, Southern Arizona Legal Aid, Inc., Tucson, AZ) will discuss their experiences undergoing on-site visits from the Office of Compliance & Enforcement conducting a CSM/CMS review, a technical review, and accountability training.

4. Status report on current open rulemakings and Rulemaking Protocol.

5. Consider and act on Rulemaking Protocol.

6. Consider and act on Limited English Proficiency Guidance.

7. Consider and act on potential identification of new appropriate subject(s) for rulemaking.

8. Consider and act on contract renewals for LSC Vice Presidents Randi Youells, Mauricio Vivero, and Victor Fortuno.

9. Consider and act on other business.

10. Public comment.

CONTACT PERSON FOR INFORMATION: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: August 16, 2002.
Victor M. Fortuno,
Vice President for Legal Affairs, General Counsel & Corporate Secretary.

[FR Doc. 02-21361 Filed 8-16-02; 5:01 pm]

BILLING CODE 7050-01-P